LEGAL SERVICES CORPORATION

Notice of Intent To Award—Grant Awards for the Provision of Civil Legal Services to Eligible Low-Income Clients in Wyoming Beginning August 1, 2009

AGENCY: Legal Services Corporation.

ACTION: Announcement of intention to make FY 2009 Competitive Grant Awards.

SUMMARY: The Legal Services Corporation (LSC) hereby announces its intention to award grants and contracts to provide economical and effective delivery of high quality civil legal services to eligible low-income clients in Wyoming, beginning August 1, 2009.

DATES: All comments and recommendations must be received on or before the close of business on July 13, 2009.

ADDRESSES: Legal Services Corporation—Competitive Grants, Legal Services Corporation; 3333 K Street, NW., Third Floor; Washington, DC 20007.

FOR FURTHER INFORMATION CONTACT: Reginald Haley, Office of Program Performance, at (202) 295-1545, or haleyr@lsc.gov.

SUPPLEMENTARY INFORMATION: Pursuant to LSC's announcement of funding availability on December 9, 2008 (73 FR 74756), LSC intends to award funds to the following organizations to provide civil legal services in the indicated service areas. Amounts are subject to change.

State and service area | Applicant name | Annualized grant amount
Wyoming:
WY-4 | Center for Dispute Solutions, Inc | $527,007
WY-4 | Legal Aid of Wyoming, Inc | 527,007
NWY-1 | Center for Dispute Solutions, Inc | 184,660
NWY-1 | Legal Aid of Wyoming, Inc | 184,660
MWY | Center for Dispute Solutions, Inc | 13,266
MWY | Legal Aid of Wyoming, Inc | 13,266

These grants and contracts will be awarded under the authority conferred on LSC by the Legal Services Corporation Act, as amended (42 U.S.C. 2996e(a)(1)). Awards will be made so that each service area is served, although none of the listed organizations are guaranteed an award or contract. This public notice is issued pursuant to the LSC Act (42 U.S.C. 2996f(f)), with a request for comments and recommendations concerning the potential grantees within a period of thirty (30) days from the date of publication of this notice. Grants will become effective and grant funds will be distributed on or about August 1, 2009.

Dated: June 8, 2009.
Janet LaBella,
Director, Office of Program Performance, Legal Services Corporation.

[FR Doc. E9-13798 Filed 6-11-09; 8:45 am]

BILLING CODE 7050-01-P